ENVIRONMENTAL PROTECTION AGENCY

[EPA-HQ-OW-2010-0824; FRL—9678-5]

RIN 2040-ZA18

Preliminary 2012 Effluent Guidelines Program Plan and 2011 Annual Effluent Guidelines Review Report

AGENCY: Environmental Protection Agency (EPA).

ACTION: Notice of availability.

SUMMARY: This notice announces the availability of the Preliminary 2012 Effluent Guidelines Program Plan (“Preliminary 2012 Plan”) and EPA's 2011 Annual Effluent Guidelines Review Report, and solicits public comment on both. Clean Water Act (CWA) section 304(m), 33 U.S.C. 1314(m), requires EPA to biennially publish a plan for new and revised effluent guidelines, after public notice and comment, which identifies any new or existing industrial categories selected for effluent guidelines rulemaking and provides a schedule for such rulemaking. EPA works to publish a preliminary plan in the odd numbered years and a final plan in the even numbered years. The findings from the 2011 Annual Reviews were used in developing the Preliminary 2012 Plan and will be used in developing the Final 2012 Plan.

DATES: Submit comments on or before October 7, 2013.

ADDRESSES: Submit your comments on the 2011 Annual Reviews and Preliminary 2012 Plan identified by Docket ID No. EPA-HQ-OW-2010-0824, by one of the following methods:

• http://www.regulations.gov: Follow the on-line instructions for submitting comments.

• Email: ow-docket@epa.gov, Attention Docket ID No. EPA-HQ-OW-2010-0824.

• Fax: (202) 566-9744

• Mail: Water Docket, Environmental Protection Agency, Mailcode: 2822T, Attention Docket ID No. EPA-HQ-OW-2010-0824, 1200 Pennsylvania Ave. NW., Washington, DC 20460.

• Hand Delivery: EPA Docket Center, EPA West, Room 3334, 1301 Constitution Avenue NW., Washington, DC, Attention Docket ID No. EPA-HQ-OW-2010-0824. Such deliveries are accepted only during the Docket Center's normal hours of operation, and special arrangements should be made for deliveries of boxed information.

Instructions: Direct your comments on the 2011 Annual Reviews and Preliminary 2012 Plan to Docket ID No. EPA-HQ-OW-2010-0824. EPA's policy is that all comments received will be included in the public docket without change and could be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means that EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment because of technical difficulties and cannot contact you for clarification, EPA might not be able to consider your comment. Electronic files should avoid the use of special characters, any form of encryption, and be free of any defects or viruses. For additional information about EPA's public docket visit the EPA Docket Center homepage at http://www.epa.gov/epahome/dockets.htm. For additional instructions on submitting comments, go to the SUPPLEMENTARY INFORMATION section of this document.

Submitting Confidential Business Information

Do not submit confidential business information (CBI) to EPA through www.regulations.gov or email. Any CBI you wish to submit should be sent via a trackable physical method, such as Federal Express or United Parcel Service, to Mr. M. Ahmar Siddiqui, Document Control Officer, Engineering and Analysis Division (4303T), Room 6231S EPA West, U.S. EPA, 1200 Pennsylvania Ave. NW., Washington, DC 20460. A CBI package should be double-wrapped, so that the CBI is in one package, which is itself inside another package. Clearly mark the part or all of the information that you claim to be CBI. For CBI information on a disk or CD ROM that you mail to EPA, mark the outside of the disk or CD ROM as CBI and then identify electronically within the disk or CD ROM the specific information that is claimed as CBI. In addition to one complete copy of the material that includes information claimed as CBI, a copy of the material that does not contain the information claimed as CBI must be submitted for inclusion in the public docket. Information marked as CBI will not be disclosed except in accordance with procedures set forth in 40 CFR Part 2.

Docket: All documents in the docket are listed in the index at www.regulations.gov. Although listed in the index, some information is not publicly available, i.e., CBI or other information whose disclosure is restricted by statute. Certain other material, such as copyrighted material, is not placed on the Internet and will be publicly available only in hard copy form. Publicly available docket materials are available either electronically at www.regulations.gov or in hard copy at the Water Docket in the EPA Docket Center, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Water Docket is (202) 566-2426.

FOR FURTHER INFORMATION CONTACT: Mr. William F. Swietlik, Engineering and Analysis Division, Office of Water, 4303T, U.S. Environmental Protection Agency, 1200 Pennsylvania Avenue NW., Washington, DC., 20460; telephone number: (202) 566-1129; fax number: (202) 566-1053; email address: swietlik.william@epa.gov.

SUPPLEMENTARY INFORMATION:

I. General Information

A. Supporting Documents

Key documents providing additional information about EPA's 2011 Annual Reviews and the Preliminary 2012 Plan include the 2011 Annual Effluent Guidelines Review Report and the Preliminary 2012 Effluent Guidelines Program Plan.

B. How can I get copies of these documents and other related information?

1. Docket. EPA has established official public dockets for these actions under Docket ID No. EPA-HQ-OW-2010-0824. The official public docket is the collection of materials that is available for public viewing at the Water Docket in the EPA Docket Center, (EPA/DC) EPA West, Room 3334, 1301Constitution Ave. NW., Washington, DC 20460.

2. Electronic Access. You may access this Federal Register document electronically through the United States government online source for Federal regulations at http://www.regulations.gov.

3. Internet access. Copies of the supporting documents are available at http://water.epa.gov/lawsregs/lawsguidance/cwa/304m/index.cfm.

C. What should I consider as I prepare my comments for EPA?

Tips for Preparing Your Comments. When submitting comments, remember to:

• Identify the rulemaking by docket number and other identifying information (subject heading, Federal Register date and page number).

• Follow directions—The agency might ask you to respond to specific questions or organize comments by referencing a Code of Federal Regulations (CFR) part or section number.

• Explain why you agree or disagree, suggest alternatives, and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible.

• Make sure to submit your comments by the comment period deadline identified.

II. How is this document organized?

The outline of this notice follows.

A. Legal Authority.

B. Summary Findings of the 2011 Annual Reviews.

C. Summary of the Preliminary 2012 Effluent Guidelines Program Plan.

D. Public Comments.

E. Summary of the Planned Process for 2012 Annual Reviews.

F. Requests for Comment and Information.

A. Legal Authority

This notice is published under the authority of the CWA, 33 U.S.C. 1251, et seq., and in particular sections 301(d), 304(b), 304(g), 304(m), 306, 307(b), 308, 33 U.S.C. 1311(d), 1314(b), 1314(g), 1314(m), 1316, 1317(b), and 1318.

B. Summary Findings of the 2011 Annual Reviews

After completing the 2011 Annual Reviews, EPA has determined that discharges from 17 of the top 20 industrial categories were not a hazard priority. However, EPA determined that additional information and analysis is necessary before concluding the review of the three remaining point source categories: Pulp, Paper and Paperboard (40 CFR Part 430), Petroleum Refining (40 CFR Part 419), and Meat and Poultry Products (40 CFR Part 432). Therefore, EPA continued to review these categories' discharges during the 2012 Annual Reviews and will report its finding in the Final 2012 Plan.

C. Summary of the Preliminary 2012 Effluent Guidelines Program Plan

EPA is not identifying any industry category for new or revised effluent guidelines in the Preliminary 2012 Plan. In addition, for previously initiated rulemakings, EPA is proposing to delist from the effluent guidelines plan the rulemaking for the Coalbed Methane Extraction subcategory based on new information regarding the declining prevalence and economic viability of this industry, due in large part to the increased extraction of natural gas from other sources, such as shale formations. See the supporting documents available at http://water.epa.gov/lawsregs/lawsguidance/cwa/304m/index.cfm for further explanation. EPA is also proposing to delist the Chlorine and Chlorinated Hydrocarbon (CCH) manufacturing industry from the Plan and discontinue its rulemaking.

Based on a preliminary study that has been completed, EPA has concluded that an effluent guideline revision is not necessary for Regenerated Cellulose Manufacturers (previously categorized as Plastics Molding and Forming (40 CFR Part 463)).

D. Public Comments

EPA also considered public comments and information submitted by stakeholders in response to a solicitation for comments on the Final 2010 Effluent Limitations Guidelines (ELG) Program Plan (Final 2010 Plan), published in the Federal Register on October 26, 2011 (76 FR 66286).

A total of 31 organizations provided comment on the Final 2010 Plan. Most of the public comment and input submitted focused on expressing opposition or support for the announced ELGs for Shale Gas Extraction, Coalbed Methane Extraction and Dental Amalgam. A few comments provided a small amount of information and ideas on the 304(m) planning process in general; nanomaterial discharges; the disposal of unused pharmaceuticals; and on the ore mining and dressing study report.

E. Summary of the Process for 2012 Annual Reviews

EPA conducted four new targeted review methodologies to better identify new industries or industry processes at existing industries that may need new or revised effluent guidelines and standards for the 2012 reviews. These methodologies included:

• Identifying pass-through pollutants in sewage sludge using the 2009 Targeted National Sewage Sludge Survey (TNSSS).

• Identifying new pollutants and industry discharges using data and information from EPA's toxic substances control programs.

• Identifying new waste streams generated from new air pollution controls associated with Clean Air Act rulemakings.

• Identifying new industries through potential TRI expansion sectors.

These new targeted review methodologies are further described in the Preliminary 2012 Plan available for review at: http://water.epa.gov/lawsregs/lawsguidance/cwa/304m/index.cfm.

EPA has modified its annual review process to conduct a toxicity ranking analysis for industry only during the odd numbered years and additional targeted reviews of industry during the even numbered years.

F. Request for Comment and Information

EPA requests comments and information on the Preliminary 2012 Effluent Guidelines Program Plan and on the 2011 Annual Effluent Guidelines Review Report in the following areas.

1. Data Sources and Methodologies

EPA solicits comments on whether it used the correct evaluation factors, criteria, and data sources in conducting its 2011 annual review and developing this Plan. EPA also solicits comment on other data sources EPA can use in its annual reviews and biennial planning process.

2. Methodologies for the 2012 Annual Reviews

EPA solicits comments on its methods for the 2012 Annual Reviews and for subsequent even numbered year reviews. EPA used targeted industrial review methods during 2012, as described above. Specifically, EPA solicits comment on data and other sources of available information or approaches that EPA could consider for the annual reviews in subsequent even years, or comments regarding the targeted approaches described above and in the Preliminary 20122 Plan.

3. The Preliminary 2012 Effluent Guidelines Program Plan

EPA solicits comments on its Preliminary 2012 Plan, including the data and information used to support the findings and conclusions stated in the Preliminary 2012 Plan. EPA also solicits comments on the proposed decisions to not identify any industry categories for the development of new or revised effluent guidelines and to delist the Coalbed Methane Extraction subcategory and Chlorine and Chlorinated Hydrocarbon Manufacturing from the effluent guidelines plan.

4. Implementation Issues Related to Existing Effluent Guidelines and Pretreatment Standards

As a factor in its decision-making, EPA considers opportunities to eliminate inefficiencies or impediments to pollution prevention or technological innovation, or opportunities to promote innovative approaches such as water quality trading, including within-plant trading. Consequently, EPA solicits comments on implementation issues related to existing effluent guidelines and pretreatment standards.

5. Innovation and Technology in the Effluent Guidelines Program

EPA is requesting public comment and ideas on the subject of technology innovation. EPA seeks public input and comment on the following questions and related themes:

—Are there new, innovative pollution control or pollution prevention technologies that can be used by any of the existing 57 categories of industry with effluent limitations guidelines?

—Are there innovative manufacturing approaches that can be used by industries to reduce or prevent their wastewater discharges?

—How can EPA's effluent limitations guidelines program enhance technology transfer to catalyze and harness innovation to solve industrial wastewater problems, both now and in the future?

—How can EPA better foster consideration of innovative technologies through the effluent guidelines planning process?

Nancy K. Stoner,
Acting Assistant Administrator for Water.

[FR Doc. 2013-19074 Filed 8-6-13; 8:45 am]

BILLING CODE 6560-50-P